DEPARTMENT OF LABOR

Office of the Secretary

Submission for OMB Review; Comment Request

November 20, 2002.

The Department of Labor (DOL) has submitted the following public information collection request (ICR) to the Office of Management and Budget (OMB) for review and approval in accordance with the Paperwork Reduction Act of 1995 (Pub. L. 104-13, 44 U.S.C. Chapter 35). A copy of this ICR, with applicable supporting documentation, may be obtained by calling the Department of Labor. To obtain documentation contact Darrin King on 202-693-4129 or E-Mail: King-Darrin@dol.gov.

Comments should be sent to Office of Information and Regulatory Affairs, Attn: OMB Desk Officer for ETA, Office of Management and Budget, Room 10235, Washington, DC 20503 (202-395-7316), within 30 days from the date of this publication in the Federal Register.

The OMB is particularly interested in comments which:

• Evaluate whether the proposed collection of information is necessary for the proper performance of the functions of the agency, including whether the information will have practical utility;

• evaluate the accuracy of the agency's estimate of the burden of the proposed collection of information, including the validity of the methodology and assumptions used;

• enhance the quality, utility, and clarity of the information to be collected; and

• minimize the burden of the collection of information on those who are to respond, including through the use of appropriate automated, electronic, mechanical, or other technological collection techniques or other forms of information technology, e.g., permitting electronic submission of responses.

Agency: Employment and Training Administration (ETA).

Title: Reporting for Temporary Extended Unemployment Compensation Program.

OMB Number: 1205-0433.

Affected Public: State, Local, or Tribal Government.

Type of Response: Reporting.

Number of Respondents: 53.

Annualized Reporting Burden
Form | Frequency | Annual responses | Average response time (hours) | Total annual burden hours
ETA-207 | Quarterly | 212 | 0.5 | 106
ETA-218 | Quarterly | 212 | 0.2 | 42
ETA-227 | Quarterly | 212 | 1.0 | 212
ETA-2112 | Monthly | 636 | 0.2 | 127
ETA-5130 | Monthly | 636 | 1.0 | 636
ETA-5159 | Monthly | 636 | 1.0 | 636
ETA-539 | Weekly | 2,756 | 0.01 | 28
Total: |  | 5,300 |  | 1,787

Total Burden Cost (capital/startup): $ 0.

Total Burden Cost (operating/maintaining): $ 0.

Description: On March 9, 2002, President Bush signed into law the Temporary Extended Unemployment Compensation (TEUC) program. This program provides up to 26 weeks of additional unemployment benefits to eligible claimants who have exhausted their regular entitlement. This is a temporary, federally funded program enacted through December 31, 2002. To properly administer and monitor this program, specific information is required from states. The information requested through these reports are necessary to proper administer the program and interpretation of labor market conditions. Approval is not being sought for any new forms, but rather, approval is being sought for an additional use of the following existing forms:

Report | OMB No. | Expiration date
ETA 207 | 1205-0150 | 10/31/2004
ETA 218 | 1205-0177 | 07/31/2004
ETA 227 | 1205-0173 | 11/30/2003
ETA 2112 | 1205-0154 | 01/31/2003
ETA 5130 | 1205-0172 | 10/31/2004
ETA 5159 | 1205-0010 | 03/31/2003
ETA 539 | 1205-0028 | 07/31/2003

Ira L. Mills,
Departmental Clearance Officer.

[FR Doc. 02-30420 Filed 11-29-02; 8:45 am]

BILLING CODE 4510-30-P